DEPARTMENT OF TRANSPORTATION

Federal Aviation Administration

14 CFR Part 39

[Docket No. FAA-2005-21598; Directorate Identifier 2005-NM-121-AD; Amendment 39-14159; AD 2005-13-22]

RIN 2120-AA64

Airworthiness Directives; Empresa Brasileira de Aeronautica S.A. (EMBRAER) Model EMB-135 Airplanes and Model EMB-145, -145ER, -145MR, -145LR, -145XR, -145MP, and -145EP Airplanes

AGENCY: Federal Aviation Administration (FAA), Department of Transportation (DOT).

ACTION: Final rule; request for comments.

SUMMARY: The FAA is superseding an existing airworthiness directive (AD) that applies to all EMBRAER Model EMB-135 and -145 airplanes. The existing AD currently requires repetitive inspections of the electrical connectors of the electric fuel pumps to detect discrepancies, application of anti-corrosion spray, replacement of all fuel pumps with improved fuel pumps, repetitive inspections after all six fuel pumps are replaced, and applicable corrective actions. This new AD retains those requirements but revises the initial compliance time for an inspection for certain airplanes. This new AD is prompted by the need to correct a compliance time in the existing AD. We are issuing this AD to prevent an ignition source in the fuel tank or adjacent dry bay, which could result in fire or explosion.

DATES: Effective July 7, 2005.

On May 19, 2005 (70 FR 19685, April 14, 2005), the Director of the Federal Register approved the incorporation by reference of EMBRAER Service Bulletin 145-28-0013, dated April 25, 2001.

On October 3, 2000 (65 FR 56233, September 18, 2000), the Director of the Federal Register approved the incorporation by reference of EMBRAER Alert Service Bulletin S.B. 145-28-A013, dated August 16, 2000.

We must receive any comments on this AD by August 22, 2005.

ADDRESSES: Use one of the following addresses to submit comments on this AD.

• DOT Docket Web Site: Go to http://dms.dot.gov and follow the instructions for sending your comments electronically.

• Government-wide Rulemaking Web Site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Empresa Brasileira de Aeronautica S.A. (EMBRAER), P.O. Box 343—CEP 12.225, Sao Jose dos Campos—SP, Brazil.

You can examine the contents of this AD docket on the Internet at http://dms.dot.gov, or in person at the Docket Management Facility, U.S. Department of Transportation, 400 Seventh Street, SW., room PL-401, on the plaza level of the Nassif Building, Washington, DC. This docket number is FAA-2005-21598; the directorate identifier for this docket is 2005-NM-121-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: On April 1, 2005, the FAA issued AD 2005-08-02, amendment 39-14054 (70 FR 19685, April 14, 2005). That AD applies to all EMBRAER Model EMB-135 and -145 series airplanes. That AD requires repetitive inspections of the electrical connectors of the electric fuel pumps to detect discrepancies, follow-on corrective actions, replacement of discrepant fuel pumps under certain conditions, application of anti-corrosion spray, eventual replacement of all fuel pumps with improved fuel pumps; and repetitive inspections after all six fuel pumps are replaced. That AD was prompted by the manufacturer's development of a new modification that addresses the unsafe condition. The actions specified in that AD are intended to prevent an ignition source in the fuel tank or adjacent dry bay, which could result in fire or explosion.

Actions Since AD Was Issued

Since we issued that AD, we have learned that paragraph (i)(2), as published in AD 2005-08-02, includes an incorrect compliance time. That AD incorrectly identified the compliance times in terms of “flight cycles” instead of “flight hours.” The inadvertent transposition occurred during the preparation of the final rule.

Explanation of Change to Applicability

The FAA has revised the applicability of the existing AD to identify model designations as published in the most recent type certificate data sheet for the affected models.

FAA's Determination and Requirements of This AD

These airplane models are manufactured in Brazil and are type certificated for operation in the United States under the provisions of section 21.29 of the Federal Aviation Regulations (14 CFR 21.29) and the applicable bilateral airworthiness agreement.

We are issuing this AD to supersede AD 2005-08-02. This new AD retains the requirements of the existing AD, with the sole change to the compliance time in paragraph (i)(2) described previously.

FAA's Determination of the Effective Date

Providing notice and opportunity for public comment before the AD is issued is unnecessary as the substance of the AD is unchanged, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-21598; Directorate Identifier 2005-NM-121-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing amendment 39-14054 (70 FR 19685, April 14, 2005) and adding the following new AD:

2005-13-22 Empresa Brasileira de Aeronautica S.A. (EMBRAER): Docket No. FAA-2005-21598; Directorate Identifier 2005-NM-121-AD; Amendment 39-14159.

Effective Date

(a) This AD becomes effective July 7, 2005.

Affected ADs

(b) This AD supersedes AD 2005-08-02, amendment 39-14054.

Applicability: (c) This AD applies to all EMBRAER Model EMB-135BJ, -135ER, -135KE, -135KL, and -135LR airplanes; and Model EMB-145, -145ER, -145MR, and -145LR airplanes; certificated in any category.

Unsafe Condition

(d) This AD was prompted by the need to correct a compliance time in the existing AD. We are issuing this AD to prevent an ignition source in the fuel tank or adjacent dry bay, which could result in fire or explosion.

Compliance: (e) You are responsible for having the actions required by this AD performed within the compliance times specified, unless the actions have already been done.

Repetitive Inspections

(f) Perform a general visual inspection of the electrical connectors of the fuel pumps in the right- and left-hand wings to detect discrepancies (including blackened connector pins, damage to electrometric insert, cracks, erosion, or charring), in accordance with EMBRAER Alert Service Bulletin S.B. 145-28-A013, dated August 16, 2000, at the times specified in paragraphs (f)(1), (f)(2), and (f)(3) of this AD, as applicable. Repeat the inspection thereafter at intervals not to exceed 400 flight hours until the inspection required by paragraph (i) of this AD is done.

(1) For airplanes having 1,200 total flight hours or less as of October 3, 2000 (the effective date of AD 2000-19-02, amendment 39-11903): Prior to the accumulation of 1,600 total flight hours.

(2) For airplanes having more than 1,200 total flight hours, but less than 4,000 total flight hours, as of October 3, 2000: Within 400 flight hours after October 3, 2000.

(3) For airplanes having 4,000 total flight hours or more as of October 3, 2000: Prior to the accumulation of 4,400 total flight hours, or within 50 flight hours after October 3, 2000, whichever occurs later.

Note 1: For the purposes of this AD, a general visual inspection is “a visual examination of a interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Follow-On Corrective Actions

(g) If any discrepancy (including blackened connector pins, damage to electrometric insert, cracks, erosion, or charring) is detected after accomplishment of any inspection required by paragraph (f) of this AD: Before further flight, replace the fuel pump and its mating airplane connector in accordance with EMBRAER Alert Service Bulletin S.B. 145-28-A013, dated August 16, 2000.

(h) After accomplishment of the replacement required by paragraph (g) of this AD: Before further flight, perform a general visual inspection of the electrical connectors adjacent to the fuel pump to detect damage (visible cracks, erosion, or charring), in accordance with EMBRAER Alert Service Bulletin S.B. 145-28-A013, dated August 16, 2000, and accomplish the requirements in paragraph (h)(1) or (h)(2) of this AD, as applicable.

(1) If any damage is detected, before further flight, replace the connectors with new ones in accordance with the alert service bulletin.

(2) If no damage is detected, before further flight, replace only the socket contacts with new contacts in accordance with the alert service bulletin.

Inspections

(i) Do a general visual inspection of the electrical connectors of the fuel pumps in the right- and left-hand wings to detect discrepancies (including any corrosion, surface irregularities, damaged plating, blackened pins, damaged elastomeric inserts, cracks, erosion, or charring of the connector). Do the first inspection at the applicable time in paragraph (i)(1), (i)(2), or (i)(3) of this AD, in accordance with Part I of the Accomplishment Instructions of EMBRAER Service Bulletin 145-28-0013, dated April 25, 2001. Repeat the inspection thereafter at intervals not to exceed 1,200 flight hours until all six fuel pumps are replaced with pumps having part number (P/N) 2C7-4. When all six fuel pumps have been replaced with P/N 2C7-4 pumps, repeat the inspection thereafter at intervals not to exceed 8,000 flight hours. Doing the initial inspection required by this paragraph terminates the repetitive inspections required by paragraph (f) of this AD.

(1) For airplanes that were inspected in accordance with paragraph (f) of this AD on or before May 19, 2005 (the effective date of AD 2005-08-02), but did not have all six P/N 2C7-4 pumps as of May 19, 2005: Within 1,200 flight hours since the most recent inspection done in accordance with paragraph (f) of this AD.

(2) For airplanes that were inspected in accordance with paragraph (f) of this AD on or before May 19, 2005, that had all six P/N 2C7-4 pumps as of May 19, 2005: Within 8,000 flight hours since replacement of all six pumps with P/N 2C7-4 pumps, or within 2,000 flight hours after the effective date of this AD, whichever occurs later.

(3) For airplanes that were not inspected in accordance with paragraph (f) of this AD on or before May 19, 2005: Within 1,200 flight hours after May 19, 2005.

Corrective Action If No Discrepancy Is Found

(j) If there is no evidence of a discrepancy found during any inspection required by paragraph (i) of this AD: Before further flight, apply anti-corrosion spray on the male contacts of the fuel pump electrical connectors in accordance with the Accomplishment Instructions of EMBRAER Service Bulletin 145-28-0013, dated April 25, 2001.

Replacement if Any Discrepancy Is Found

(k) If any evidence of a discrepancy is found during any inspection required by paragraph (i) of this AD: Before further flight, replace the electric fuel pump with a serviceable pump in accordance with the Accomplishment Instructions of EMBRAER Service Bulletin 145-28-0013, dated April 25, 2001. After the replacement, repeat the inspection required by paragraph (i) of this AD at the applicable interval in that paragraph.

Inspection and Corrective Actions

(l) Before further flight after replacing a fuel pump, as required by paragraph (k) of this AD: Do a general visual inspection for damage of the mating aircraft connectors; and do the applicable corrective action in paragraph (l)(1) or (l)(2) of this AD; in accordance with the Accomplishment Instructions of EMBRAER Service Bulletin 145-28-0013, dated April 25, 2001.

(1) If there is any sign of damage to the mating aircraft connectors: Replace the affected connector with a new connector, and apply anti-corrosion spray on the male contacts of the fuel pump electric connectors.

(2) If there is no sign of damage to the mating aircraft connectors: Replace only the socket contacts with new socket contacts, and apply anti-corrosion spray on the male contacts of the fuel pump electric connectors.

Master Minimum Equipment List (MMEL)

(m) The inspections required by paragraphs (f) and (i) of this AD apply to the six electric fuel pumps in the right- and left-hand wings (three pumps in each wing). For pump replacement planning purposes, the airplane may be operated in accordance with the provisions and limitations specified in an operator's FAA-approved MMEL, provided that no more than one fuel pump on each wing on the airplane is inoperative.

Note 2: When operating under the MMEL, operators must comply with the unusable fuel quantity as referenced in the Limitations section of the appropriate FAA-approved Airplane Flight Manual.

Alternative Methods of Compliance (AMOCs)

(n)(1) The Manager, International Branch, ANM-116, Transport Airplane Directorate, FAA, has the authority to approve AMOCs for this AD, if requested using the procedures found in 14 CFR 39.19.

(2) Alternative methods of compliance, approved previously per AD 2000-19-02, amendment 39-11903, are not approved as alternative methods of compliance with this AD.

Related Information

(o) Brazilian airworthiness directive 2000-08-01R2, dated February 13, 2002, also addresses the subject of this AD.

Material Incorporated by Reference

(p) Unless the AD specifies otherwise, you must use EMBRAER Alert Service Bulletin S.B. 145-28-A013, dated August 16, 2000; and EMBRAER Service Bulletin 145-28-0013, dated April 25, 2001; as applicable; to perform the actions that are required by this AD.

(1) The incorporation by reference of EMBRAER Service Bulletin 145-28-0013, dated April 25, 2001, was approved previously by the Director of the Federal Register as of May 19, 2005 (70 FR 19685, April 14, 2005).

(2) The incorporation by reference of EMBRAER Alert Service Bulletin S.B. 145-28-A013, dated August 16, 2000, was approved previously by the Director of the Federal Register as of October 3, 2000 (65 FR 56233, September 18, 2000).

(3) To get copies of the service information, contact Empresa Brasileira de Aeronautica S.A. (EMBRAER), P.O. Box 343—CEP 12.225, Sao Jose dos Campos—SP, Brazil. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on June 15, 2005.
Kevin M. Mullin,
Acting Manager, Transport Airplane Directorate, Aircraft Certification Service.

[FR Doc. 05-12301 Filed 6-21-05; 8:45 am]

BILLING CODE 4910-13-P